DEPARTMENT OF THE INTERIOR

Minerals Management Service

Beaufort Sea and Chukchi Sea Planning Areas Oil and Gas Lease Sales 209, 212, 217, and 221

AGENCY: Minerals Management Service (MMS), Interior.

ACTION: Notice of Availability of a Draft Environmental Impact Statement (DEIS) and announcement of Public Hearings.

SUMMARY: The purpose of the proposed Federal actions addressed in this DEIS (OCS EIS/EA MMS 2008-055) is to offer for lease areas in the Beaufort Sea and Chukchi Sea Outer Continental Shelf (OCS) that may contain economically recoverable oil and natural gas resources. These lease sales would provide qualified bidders the opportunity to bid on certain blocks in the Beaufort Sea and Chukchi Sea OCS to gain conditional rights to explore, develop, and produce oil and natural gas.

This DEIS is a draft of the National Environmental Policy Act (NEPA) analysis that will enable the Minerals Management Service (MMS) to make informed decisions on the configuration of the lease sales and the applicable mitigation measures. In the DEIS, the potential direct, indirect, and cumulative environmental impacts of the proposed sales and alternatives, including projected exploration and development and production activities on the physical, biological, and human environments in the Beaufort Sea and Chukchi Sea areas, are analyzed.

The DEIS integrates the biological assessment elements required under Section 7 of the Endangered Species Act (per Section 402.06 of the Act) for species under jurisdiction of the U.S. Fish and Wildlife Service. The DEIS reflects the information in the MMS Biological Assessment and the National Marine Fisheries Service (NMFS) Biological Opinion (dated July 17, 2008) for the bowhead, fin, and humpback whales.

SUPPLEMENTARY INFORMATION: In the DEIS, the MMS has examined the potential environmental effects of the Proposed Actions and alternatives. The Proposed Actions (Alternative 2 for each planning area) are to conduct Beaufort and Chukchi Sea OCS Lease Sales 209, 212, 217, and 221 in the years 2010, 2010, 2011, and 2012, respectively. The resource estimates and scenario information included in the DEIS analysis are presented as a range of activities that could be associated with each sale, including exploration seismic surveying, on-lease ancillary activities, exploration and delineation drilling, development and production of OCS oil and natural gas resources, decommissioning, and lease abandonment.

The Proposed Actions combined would offer for lease approximately 13,449 whole and partial blocks (about 73.4 million acres) identified as the program areas in the 2007-2012 5-Year Program. The proposed Chukchi Sea Sale area excludes a zone within 25 miles of the Chukchi Sea coast. Water depths in the Beaufort Sea and Chukchi Sea sale areas vary from approximately 10 meters (33 feet) to approximately 3,800 meters (12,467 feet).

Alternative 1 (No Lease Sale) for each sale area is equivalent to cancellation of a Proposed Action as scheduled in the approved 5-Year Program. The opportunity to discover and develop the estimated oil and gas resources that could have resulted from a Proposed Action would be precluded or postponed, and any potential environmental impacts resulting from a Proposed Action would not occur or would be postponed.

Beaufort Sea Alternative 3 (Barrow Deferral) is the Proposed Action excluding an area comprising approximately 15 whole or partial blocks along the Beaufort coastline east of Barrow beginning at the three-mile limit. This alternative was developed to reduce potential impacts to bowhead whale subsistence hunters as well as various wildlife species and associated habitats. Beaufort Sea Alternative 4 (Cross Island Deferral) is the Proposed Action excluding an area comprising approximately 41 whole or partial blocks north and east of Cross Island. This alternative was developed to protect a portion of the Nuiqsut Bowhead whale subsistence hunting area. Beaufort Sea Alternative 5 (Eastern Deferral) is the Proposed Action excluding an area comprising approximately 80 whole or partial blocks along the coastline east of Kaktovik. This alternative was developed to provide protection for a portion of the Kaktovik's bowhead whale subsistence hunting area. Beaufort Sea Alternative 6 (Deepwater Deferral) is the Proposed Action excluding an area comprising approximately 4,357 whole or partial blocks in areas off the continental shelf. This alternative defers areas that are generally deeper than 100 meters.

Chukchi Sea Alternative 3 (Coastal Deferral) is the Proposed Action excluding an area comprising approximately 882 whole or partial blocks near the eastern or shoreward edge of the program area. This alternative was developed as the Corridor II deferral for Sale 193 to reduce potential impacts to subsistence hunting. Chukchi Sea Alternative 4 (Ledyard Bay Deferral) is the Proposed Action excluding the area comprising approximately 191 whole or partial blocks of the proposed sale area that is within the Ledyard Bay Critical Habitat. This alternative was developed to protect the designated critical habitat area for the federally listed threatened spectacled eider. Chukchi Sea Alternative 5 (Hanna Shoal Deferral) is the Proposed Action excluding an area comprising approximately 241 whole or partial blocks at Hanna Shoal. This alternative was developed to reduce potential impacts to an ecologically important area for Pacific walruses and gray whales. Chukchi Sea Alternative 6 (Deepwater Deferral) is the Proposed Action excluding an area comprising approximately 1,020 whole or partial blocks in areas off the continental shelf. This alternative defers areas that are generally in waters deeper than 100 meters (328 feet).

DEIS Availability: To obtain a copy of the DEIS, you may contact the Minerals Management Service, Alaska OCS Region, 3801 Centerpoint Drive, Suite 500, Anchorage, Alaska 99503-5820, telephone (907) 334-5200. You may also view the DEIS on the MMS Web site at http://www.mms.gov/alaska or at the following locations:

Alaska Pacific University, Academic, Academic Support Center Library, 4101 University Drive, Anchorage, Alaska 99508.

Alaska Resources Library and Information Service (ARLIS), 3211 Providence Drive, Suite 111, Anchorage, Alaska 99508.

Alaska State Library, Government Publications, State Office Building, 333 Willoughby, Juneau, Alaska 99801.

City of Point Hope, P.O. Box 169, Point Hope, Alaska 99766.

City of Wainwright, P.O. Box 9, Wainwright, Alaska 99782.

Fairbanks North Star Borough, Noel Wien Library, 1215 Cowles Street, Fairbanks, Alaska 99701.

Point Lay Tribal Council, P.O. Box 59031, Point Lay, Alaska 99759.

Tuzzy Consortium Library, P.O. Box 749, Barrow, Alaska 99723.

Environmental Protection Agency, Region 10 Library, 1200 6th Avenue, OMP-104, Seattle, Washington 98101.

University of Alaska Anchorage, Consortium Library, 3211 Providence Drive, Anchorage, Alaska 99508.

University of Alaska Fairbanks, Elmer E. Rasmuson Library, Government Documents, 310 Tanana Drive, Fairbanks, Alaska 99709.

University of Alaska Fairbanks, Geophysical Institute, Government Documents, Fairbanks, Alaska 99775.

Z. J. Loussac Library, 3600 Denali Street, Anchorage, Alaska 99503.

Written Comments: Interested parties may submit their written comment on this DEIS until March 16, 2009, to the Regional Director, Alaska OCS Region, Minerals Management Service, 3801 Centerpoint Drive, Suite 500, Anchorage, Alaska 99503-5820, or online at http://ocsconnect.mms.gov. Our practice is to make comments, including names and addresses of respondents available for public review. Individual commenters may ask that we withhold their name, home address, or both from the public record, and we will honor such a request to the extent allowable by law. If you submit comments and wish us to withhold such information, you must state so prominently at the beginning of your submission. We will not consider anonymous comments, and we will make available for inspection in their entirety all comments submitted by organizations or businesses or by individuals identifying themselves as representatives of organizations or businesses.

Public Hearings: Public hearings will be held to receive comments on the DEIS. The hearings will provide the MMS with additional information that will help in evaluating potential effects of the leasing program in the Beaufort and Chukchi Seas. The public hearing in Anchorage is scheduled as follows:

Anchorage, Alaska

January 15, 2009, 7 p.m., Centerpoint Building, 3801 Centerpoint Drive, 1st Floor Conference Room, Contact: Mr. Albert Barros, (907) 334-5209.

Public hearings will be scheduled in the following communities between January 16 and March 15, 2009. The dates, time, and locations for these hearings will be announced to the public on the MMS Web site, through the media, and by letters to the communities.

Kaktovik, Alaska; Wainwright, Alaska; Point Lay, Alaska; Point Hope, Alaska; Barrow, Alaska; and Nuiqsut, Alaska.

FOR FURTHER INFORMATION CONTACT: Minerals Management Service, Alaska OCS Region, 3801 Centerpoint Drive, Suite 500, Anchorage, Alaska 99503-5820, Ms. Deborah Cranswick, telephone (907) 334-5267.

Dated: November 21, 2008.
Chris C. Oynes,
Associate Director for Offshore Energy and Minerals Management.

[FR Doc. E8-30246 Filed 12-18-08; 8:45 am]

BILLING CODE 4310-MR-P